FEDERAL COMMUNICATIONS COMMISSION

Notice of Public Information Collection(s) Being Reviewed by the Federal Communications Commission, Comments Requested

October 28, 2003.

SUMMARY: The Federal Communications Commission, as part of its continuing effort to reduce paperwork burden invites the general public and other Federal agencies to take this opportunity to comment on the following information collection(s), as required by the Paperwork Reduction Act (PRA) of 1995, Pub. L. No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 5, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-0804.

Title: Universal Service-Health Care Providers Universal Service Program.

Form No.: FCC Forms 465, 466, 466-A, and 467.

Type of Review: Revision of a currently approved collection.

Respondents: Business and other for-profit, not-for-profit institutions.

Number of Respondents: 12,800.

Estimated Time Per Response: 1.5-2.5 hours.

Frequency of Response: On occasion reporting requirement, and third party disclosure requirement.

Total Annual Burden: 16,000 hours.

Total Annual Cost: N/A.

Needs and Use: The Commission is considering changes to the Rural Health Care universal support mechanism in a pending Order. These potential changes could affect the respondent pool. We are anticipating the possibility of adjusting the total annual responses and burden. Therefore, we are revising FCC Forms 465, 466, 466-A and 467.

Federal Communications Commission.
Marlene H. Dortch,
Secretary.

[FR Doc. 03-27736 Filed 11-4-03; 8:45 am]

BILLING CODE 6712-01-P